ENVIRONMENTAL PROTECTION AGENCY

40 CFR Part 147

[EPA-HQ-OW-2012-0186; FRL 9787-8]

State of Washington; Underground Injection Control (UIC) Program Revision

AGENCY: Environmental Protection Agency (EPA).

ACTION: Notice of public comment period and of public hearing.

SUMMARY: The purpose of this notice is to announce that the Environmental Protection Agency (EPA) has received a complete program revision package from the State of Washington requesting approval of its revised Underground Injection Control (UIC) program; the EPA has determined the application contains all the required elements; the application is available for inspection and copying at the address appearing below; public comments are requested; and a public hearing will be held.

The purpose of this notice is to inform the public that the State of Washington has revised its UIC regulations, including the transfer of oversight authority from the Department of Ecology to the Energy Facility Site Evaluation Council to issue UIC permits at energy facilities and other minor technical corrections.

DATES: Comments will be accepted until April 22, 2013. A Public Hearing will be held on April 8, 2013 at 2:30 p.m. at EPA Region 10, 1200 6th Ave., Seattle WA; visitor check in is on the 12th Floor. Requests to testify may be mailed to: David Tetta, Ground Water Unit, EPA Region 10, Suite 900 M/S OCE-082, 1200 6th Ave., Seattle, WA 98101. For additional information regarding the public hearing, please contact David Tetta, (206) 553-1327 or tetta.david@epa.gov.

ADDRESSES: Submit your comments, identified by Docket ID No. EPA-HQ-OW-2012-0186, by one of the following methods:

• www.regulations.gov: Follow the on-line instructions for submitting comments.

• Email: tetta.david@epa.gov.

• Fax: (206) 553-6984.

• Mail: State of Washington; Underground Injection Control (UIC) Program Primacy, Environmental Protection Agency, Mailcode: 2822T, 1200 Pennsylvania Avenue NW., Washington, DC 20460.

• Hand Delivery: Water Docket, EPA Docket Center (EPA/DC) EPA West, Room 3334, 1301 Constitution Ave. NW., Washington, DC. Such deliveries are only accepted during the Docket's normal hours of operation, and special arrangements should be made for deliveries of boxed information.

Instructions: Requests to testify may be mailed to David Tetta, Ground Water Unit, Environmental Protection Agency, Region 10, 1200 Sixth Avenue, Suite 900 M/S OCE-082, Seattle, WA 98101. Direct your comments to Docket ID No. EPA-HQ-OW-2012-0186. EPA's policy is that all comments received will be included in the public docket without change and may be made available online at www.regulations.gov, including any personal information provided, unless the comment includes information claimed to be Confidential Business Information (CBI) or other information whose disclosure is restricted by statute. Do not submit information that you consider to be CBI or otherwise protected through www.regulations.gov or email. The www.regulations.gov Web site is an “anonymous access” system, which means EPA will not know your identity or contact information unless you provide it in the body of your comment. If you send an email comment directly to EPA without going through www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional information about EPA's public docket visit the EPA Docket Center homepage at http://www.epa.gov/epahome/dockets.htm or the SUPPLEMENTARY INFORMATION section of this document.

Docket: All documents in the docket are listed in the www.regulations.gov index. Although listed in the index, some information is not publicly available, e.g., CBI or other information whose disclosure is restricted by statute. Certain other material, such as copyrighted material, will be publicly available only in hard copy. Publicly available docket materials are available either electronically in www.regulations.gov or in hard copy at the following locations:

(1) Environmental Protection Agency, Region 10, Library, 10th Floor, 1200 Sixth Avenue, Seattle, WA 98101. The Library is open from 9:00 a.m. to 12:00 p.m. and 1:00 p.m.-4:00 p.m. Monday through Friday, excluding legal holidays. The telephone number for the Library is (206) 553-1289.

(2) Washington Department of Ecology, Water Quality Program, 300 Desmond Drive SE., Lacey, WA 98503. The Office is open from 8:00 a.m. to 5:00 p.m. Monday through Friday, excluding legal holidays. Please contact Mary Shaleen Hansen at (360) 407-6143.

(3) State of Washington; Underground Injection Control (UIC) Program Primacy Docket: EPA West, Room 3334, 1301 Constitution Ave. NW., Washington, DC. The Public Reading Room is open from 8:30 a.m. to 4:30 p.m., Monday through Friday, excluding legal holidays. The telephone number for the Public Reading Room is (202) 566-1744, and the telephone number for the OW Docket is (202) 566-2426; and

FOR FURTHER INFORMATION CONTACT: David Tetta, Ground Water Unit, Environmental Protection Agency, Region 10, 1200 Sixth Avenue, Suite 900 M/S OCE-082, Seattle, WA 98101; telephone number: (206) 553-1327; Fax number: (206) 553-6984; email address: tetta.david@epa.gov. Comments should also be sent to this address.

SUPPLEMENTARY INFORMATION: The UIC program revision package from the State of Washington includes a description of the State Underground Injection Control program, copies of all applicable rules and forms, a statement of legal authority, a Memorandum of Agreement between the State of Washington and the Region 10 office of the Environmental Protection Agency, and MOUs between the Department of Ecology and the Department of Health; the Department of Ecology and the Department of Natural Resources; and the Department of Ecology and the Energy Facility Site Evaluation Council.

Dated: February 7, 2013.
Daniel D. Opalski,
Acting Regional Administrator, Region 10.

[FR Doc. 2013-05213 Filed 3-7-13; 8:45 am]

BILLING CODE 6560-50-P